DEPARTMENT OF COMMERCE

Foreign-Trade Zones Board

[Order No. 1080]

Designation of New Grantee for Foreign-Trade Zone 36, Galveston, TX; Resolution and Order

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 11/9/99) submitted by the City of Galveston, Texas (the City), grantee of FTZ 36, Galveston, Texas, requesting reissuance of the grant of authority for said zone to the Board of Trustees of the Galveston Wharves (the Port), a municipal corporation, which has accepted such reissuance subject to approval of the FTZ Board. Upon review, the Board finds that the requirements of the FTZ Act and the Board's regulations are satisfied, and that the proposal is in the public interest, approves the request and recognizes the Board of Trustees of the Galveston Wharves as the new grantee of Foreign-Trade Zone 36.

The approval is subject to the FTZ Act and the FTZ Board's regulations, including section 400.28.

Signed at Washington, DC, this 22nd day of February 2000.
Attest:
Dennis Puccinelli,
Acting Executive Secretary.
Robert S. LaRussa,
Assistant Secretary of Commerce for Import Administration, Alternate Chairman, Foreign-Trade Zones Board.

[FR Doc. 00-5217 Filed 3-2-00; 8:45 am]

BILLING CODE 3510-DS-P